DEPARTMENT OF ENERGY

U.S.-Canada Power System Outage Task Force: Interim Report: Causes of the August 14th Blackout in the United States and Canada

AGENCY: Office of Electric Transmission and Distribution, Department of Energy.

ACTION: Notice of availability and opportunity for comment.

SUMMARY: The Department of Energy announces the availability of proposed recommendations that have been submitted to the U.S.-Canada Power System Outage Task Force, and announces the deadline for submission of public comments on those recommendations.

DATES: Comments must be received on or before 5 p.m. eastern standard time, February 11, 2004.

ADDRESSES: The document entitled “Interim Report: Causes of the August 14th Blackout in the United States and Canada,” public comments on the Report, and proposed recommendations submitted by the public may be reviewed, and recommendations and comments may be submitted, at http://www.electricity.doe. gov/news/blackout.cfm?section=news& level2=blackout. Comments also may be submitted by any of the following means: by e-mail to blackout.report@hq.doe.gov; by mail to James W. Glotfelty, Director, Office of Electric Transmission and Distribution, TD-1, Room 6H-050, U.S. Department of Energy, 1000 Independence Avenue, SW., Washington, DC 20585; or by facsimile to (202) 586-1472. This notice is available on the Web at www.regulations.gov.

FOR FURTHER INFORMATION CONTACT: David Meyer, Office of Electric Transmission and Distribution, U.S. Department of Energy, TD-1, Room 6H-050, 1000 Independence Avenue, SW., Washington, DC 20585, (202) 586-1411.

SUPPLEMENTARY INFORMATION: On August 14, 2003, large portions of the Midwest and Northeast United States and Ontario, Canada, experienced an electric power blackout. The outage affected an area with an estimated 50 million people and 61,800 megawatts (MW) of electric load in the states of Ohio, Michigan, Pennsylvania, New York, Vermont, Massachusetts, Connecticut, and New Jersey and the Canadian province of Ontario. The blackout began a few minutes after 4 p.m. eastern daylight time (16:00 e.d.t.), and power was not restored for two days in some parts of the United States. Parts of Ontario suffered rolling blackouts for more than a week before full power was restored.

On August 15, 2003, President Bush and Canadian Prime Minister Jean Chrétien directed that a joint U.S.-Canada Power System Outage Task Force be established to investigate the causes of the blackout and how to reduce the possibility of future outages. Since the Task Force was formed, it has been investigating the causes of the outage and is currently engaged in developing recommendations concerning how to reduce the possibility of future outages and to minimize the scope of any outages that do occur.

In November 2003, the Task Force issued an Interim Report, which is available on the Web at the Internet address identified in the ADDRESSES section of this notice. The Interim Report presented the facts that the bi-national investigation had found regarding the causes of the August 14, 2003, blackout.

When it issued the Interim Report, the Task Force requested that the public submit comments on any aspect of the Report. The Task Force also called for interested parties to submit proposed recommendations for the Task Force's consideration. Subsequently, three public meetings were held at which Task Force representatives received public comments and proposed recommendations. Those meetings were held on December 4, 2003, in Cleveland, Ohio, on December 5, 2003, in New York, New York, and on December 8, 2003, in Toronto, Ontario, Canada. Numerous parties also have submitted written comments and recommendations, all of which are available for public inspection at the Internet address identified in the ADDRESSES section of this notice.

All persons interested in submitting comments on the Interim Report, proposed recommendations, and/or comments on proposed recommendations, must submit their comments to the Task Force by the date specified in the DATES section of this notice; after that date, no further submissions will be entertained. Comments must be submitted to one of the addresses listed in the ADDRESSES section of this notice. The Task Force will consider recommendations and comments received by the specified deadline when preparing the Task Force's final report.

Issued in Washington, DC, on January 29, 2004.
James W. Glotfelty,
Director, Office of Electric Transmission and Distribution.

[FR Doc. 04-2229 Filed 2-3-04; 8:45 am]

BILLING CODE 6450-01-P